DEPARTMENT OF COMMERCE

International Trade Administration

Application(s) for Duty-Free Entry of Scientific Instruments

Pursuant to Section 6(c) of the Educational, Scientific and Cultural Materials Importation Act of 1966 (Pub. L. 89-651, as amended by Public Law 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before March 21, 2011. Address written comments to Statutory Import Programs Staff, Room 3720, U.S. Department of Commerce, Washington, DC 20230. Applications may be examined between 8:30 a.m. and 5 p.m. at the U.S. Department of Commerce in Room 3720.

Docket Number: 10-045. Applicant: Battelle Memorial Institute, Pacific Northwest Division, Pacific Northwest National Laboratory, 3335 Q Ave., Richland, WA 99354. Instrument: Electron Microscope. Manufacturer: FEI Company, the Netherlands. Intended Use: This instrument will be used as an analytical tool for doing serial sectioning and producing 3D analytical analysis for both geological and material science samples. Justification for Duty-Free Entry: There are no instruments of the same general category manufactured in the United States. Application accepted by Commissioner of Customs: February 2, 2011.

Docket Number: 10-072. Applicant: University of Puerto Rico, Institute of Neurobiology, PO Box 365067, San Juan, Puerto Rico 00936-5067. Instrument: Electron Microscope. Manufacturer: JEOL Ltd., Japan. Intended Use: The instrument will be used to reconstruct the remodeling synapses in the regenerating tectum, quantify the numbers and types of synapses, and quantify the effect that changes in brain-derived neurotrophic factors have on these synapses made by regenerated axons in the brain. The instrument will also enable the unequivocal identification of synapses made by Engrailed-expressing neurons, something that is impossible to do any other way. Additionally, the instrument will be used to study the location of aminergic receptors and transporter molecules in specific areas of the central nervous systems of freshwater prawns. Justification for Duty-Free Entry: There are no instruments of the same general category manufactured in the United States. Application accepted by Commissioner of Customs: December 22, 2010.

Docket Number: 10-076. Applicant: Regents of the University of Minnesota, 12 Shepherd Labs 100 Union St, SE., Minneapolis, MN 55455. Instrument: Electron Microscope. Manufacturer: FEI Inc., Czech Republic. Intended Use: The instrument will support structural study of the mechanisms of virus assembly and infection, kidney structure and function in disease, bacterial infection and host response, and other applications. Justification for Duty-Free Entry: There are no instruments of the same general category manufactured in the United States. Application accepted by Commissioner of Customs: December 29, 2010.

Docket Number: 11-002. Applicant: Weill Cornell Medical College of Cornell University, 1300 York Avenue, New York, NY 10065. Instrument: Electron Microscope. Manufacturer: JEOL Ltd., Japan. Intended Use: The instrument will allow users to acquire well focused, high contrast, high quality images through the full range of magnifications, from 50x to 1,200,000x. Justification for Duty-Free Entry: There are no instruments of the same general category manufactured in the United States. Application accepted by Commissioner of Customs: January 11, 2011.

Docket Number: 11-003. Applicant: Armed Forces Institute of Pathology, Department of Veterinary Pathology, Bldg. 54, Room G111, 6825 16th St., NW., Washington, DC 20306-6000. Instrument: Electron Microscope. Manufacturer: JEOL Ltd., Japan. Intended Use: The instrument will be used to examine tissue specimens to identify and characterize pathologic tissue changes, determine disease diagnosis and severity, and aid in prognosis and treatment of patients as applicable. The required capabilities that this instrument provides are a voltage range between 40kV and 120 kV, a resolution of 0.2nm line and 0.38nm point, and a magnification of x50 to 600,000, among other requirements. Justification for Duty-Free Entry: There are no instruments of the same general category manufactured in the United States. Application accepted by Commissioner of Customs: January 11, 2011.

Docket Number: 11-004. Applicant: San Diego State University, 5500 Campanile Drive, San Diego, CA 92182. Instrument: Electron Microscope. Manufacturer: FEI Inc., Czech Republic. Intended Use: The instrument will be used for many applications including the study of unicellular photosynthetic cells, arachnid systematics, and geochronology and provenance studies. The instrument will allow high quality, high throughput flow with a scope of advanced capability. It will also allow uncoated museum samples to be viewed without damage. Justification for Duty-Free Entry: There are no instruments of the same general category manufactured in the United States. Application accepted by Commissioner of Customs: January 13, 2011.

Docket Number: 11-005. Applicant: National Institute of Standards and Technology, DOC, 325 Broadway, Boulder, Colorado 80305-3328. Instrument: Electron Microscope. Manufacturer: JEOL Ltd., Japan. Intended Use: The instrument will be used to study semiconductor, metallic magnetic and nanostructured materials' structure and composition, with nanoscale and atomic level resolution. The required capabilities that the instrument provides include high resolution energy filtered and scanning transmission electron miscroscopy, convergent beam and selected area electron diffraction, and electron energy loss and energy dispersive X-ray spectroscopy. Justification for Duty-Free Entry: There are no instruments of the same general category manufactured in the United States. Application accepted by Commissioner of Customs: January 14, 2011.

Docket Number: 11-006. Applicant: University of Vermont, 19 Roosevelt Hwy., Suite 120 Colchester, Vermont 65446. Instrument: Electron Microscope. Manufacturer: JEOL Ltd., Japan. Intended Use: The instrument will be used to investigate advanced glycation end product localization using post-embedding immunoelectron microscopy techniques on thin sections from human cardiac biopsies. Required characteristics of the instrument include 120 kV accelerating voltage, and an electron gun assembly with Cool Beam Illumination System—LaB6 filament standard. Justification for Duty-Free Entry: There are no instruments of the same general category manufactured in the United States. Application accepted by Commissioner of Customs: January 19, 2011.

Docket Number: 11-007. Applicant: University of Arkansas, Office of Business Affairs, ADMN 321 Physics Fayetteville, AR 72701. Instrument: Electron Microscope. Manufacturer: FEI Inc., the Netherlands. Intended Use: The instrument will be used to complement the FEI instruments already installed at the facility, and be used to provide high-resolution imaging, spectroscopy, and sample preparation capabilities. The instrument has a unique 5-axis motorized eucentric specimen stage which reads out and displays all 5 axes with an accuracy of 0.01 microns and 0.01 degrees. Justification for Duty-Free Entry: There are no instruments of the same general category manufactured in the United States. Application accepted by Commissioner of Customs: January 24, 2011.

Docket Number: 11-015. Applicant: The Regents of the University of California, Lawrence Berkeley National Laboratory, 1 Cyclotron Road, M/S 71R0259, Berkeley, CA 94720. Instrument: Electron Microscope. Manufacturer: Carl Zeiss SMT, Inc., Germany. Intended Use: The instrument will be used to investigate the structure and composition of inorganic, polymer and biological nano-materials. The instrument allows for the employment of transmission microscopy techniques, such as high-resolution imaging and tomography, cryo-imaging, energy-filtered imaging, energy loss spectroscopy and selected-area diffraction. It meets the necessary specifications of the research, including stability of sample stage and image with respect to thermal drift and external vibration, flexibility of stage motions, flexibility of software for signal acquisition and image processing, overall system stability, and ease of use. Justification for Duty-Free Entry: There are no instruments of the same general category being manufactured in the United States. Application accepted by Commissioner of Customs: December 7, 2010.

Dated: February 23, 2011.
Gregory Campbell,
Director, IA Subsidies Enforcement Office.

[FR Doc. 2011-4515 Filed 2-28-11; 8:45 am]

BILLING CODE 3510-DS-P